DEPARTMENT OF HEALTH AND HUMAN SERVICES

Administration for Community Living

Agency Information Collection Activities; Submission for OMB Review; Public Comment Request; University Centers of Excellence in Developmental Disabilities Education, Research and Service Annual Report [OMB# 0985-0030]

AGENCY: Administration for Community Living, HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to the Proposed Revision and solicits comments on the information collection requirements related to the University Centers of Excellence in Developmental Disabilities (UCEDD) Education, Research and Service final 5-year report.

DATES: Submit written comments on the collection of information by July 1, 2020.

ADDRESSES: Submit electronic comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Pamela O'Brien, Administration for Community Living, Washington, and DC 20201, (202)795-7417.

SUPPLEMENTARY INFORMATION: The Developmental Disabilities Assistance and Bill of Rights Act of 2000 (DD Act of 2000) directs the Secretary of Health and Human Services to develop and implement a system of program accountability to monitor the grantees funded under the DD Act of 2000. The program accountability system shall include the National Network of University Centers for Excellence in Developmental Disabilities (UCEDD) Education, Research, and Service.

The DD Act of 2000 states that the UCEDD Annual Report should contain information on progress made in achieving the projected goals of the Center for the previous year.

Reporting on the extent to which the goals were achieved; a description of the strategies that contributed to achieving the goals; the extent to which the goals were not achieved, a description of factors that impeded the achievement; and an accounting of the manner in which funds paid to the Center under this subtitle for a fiscal year were expended. Information on proposed revisions to the goals and a description of successful efforts to leverage funds, other than funds made available under the DD Act of 2000.

In addition, the DD Act of 2000 states those grantees must also report on data collected regarding:

(1) Consumer satisfaction with the advocacy;

(2) capacity building;

(3) systemic change activities initiated by the UCEDD;

(4) the extent to which the UCEDD's advocacy, capacity building, and systemic change activities provided results through improvements; and

(5) the extent to which collaboration was achieved in the areas of advocacy, capacity building, and systemic change.

The UCEDD program is a discretionary grant program that supports states and territories in the operation and administration of a national network of UCEDDs. UCEDDS are interdisciplinary education, research, and public service units of universities, public or not-for-profit entities associated with universities that engage in core functions. Currently, UCEDDs engage in four broad tasks: conducting interdisciplinary training, promoting community service programs including technical assistance, conducting research, and disseminating information to the field. They address areas of emphasis such as, quality assurance, education and early intervention, child care, health, employment, housing, transportation, recreation, and other services available or offered to individuals living in the community, including formal and informal community supports, that affect their quality of life.

UCEDD accomplishments include:

• Directing exemplary interdisciplinary training programs where faculty and trainees represent a variety of disciplines which expand opportunities for students to learn different perspectives from professionals serving individuals with intellectual and developmental disabilities and their families;

• providing community services and technical assistance to individuals with intellectual and developmental disabilities, family members, professionals, paraprofessionals, systems, support service organizations, volunteers among others; and

• contributing to the development of new knowledge through research and information dissemination including field testing models of service delivery and evaluating existing innovative practices to disseminate to the field.

Comments in Response to the 60-Day Federal Register Notice

A 60-day Federal Register Notice published on March 4, 2020 in 85 FR 12787-12788, ACL received five public comments from the comment period. Following are the public comments and ACL's responses, and the updated proposed data collection tools may be found on the ACL website for review at: https://www.acl.gov/about-acl/public-input.

Public Comment #1

(a) Based upon experiences where the estimated number of hours was very substantially less than the number of UCEDD hours invested in reporting, the estimated number of hours to adapt to and maintain the revised system seems quite low. For example, grantees' internal data collection methods will require substantial revision. All faculty, staff and trainees will need training in their new documentation responsibilities. Each year, training will be repeated for new faculty, staff, and trainees.

(b) The information published in the Federal Register estimates that data collection will take 143 hours. This has not been the IOD's experience. The IOD estimates that over 1,000 hours are spent annually entering data and creating IOD reports for ACL and AIDD. Although the work required is significant, we appreciate. Despite these recent improvements, an assessment of the proposed changes to the reporting requirements of the PPR predicts a net increase in effort in order to be in compliance.

(c) Our current estimated time burden for data collection, entry, cleaning and analysis as well as report writing annually is 1,200 hours for the PPR. This does not include writing the 5-year report. We estimate that it would take us an additional 40-60 hours to write the 5-year report, increasing the total estimated time burden for 5-year reporting years to almost 1,300 hours.

(d) Furthermore, reporting of the intermediate outcomes for Research, in particular, will be onerous for researchers who already have substantial reporting and publication requirements specified in their grants and contracts. This requirement seems redundant with the required reporting of publications.

ACL Response #1

ACL has reviewed and accepts your recommendations. The estimated burden hours will be corrected in the 30-day FRN public call for comments. In response to the concern about reporting intermediate research outcomes, the 5-year report language will be amended to require a research impact statement replacing the case example requirement. ACL will use the impact statement for communication, collaboration, and other purposes.

Comment #2

The following paragraph from Part (1.a.) Detailed Work Plan Progress Report (annual report) seems to refer to future activities (e.g., “individuals who will work”) and therefore is very confusing as an aspect of a report on progress in a past year.

Response #2

ACL reviewed and will delete the confusing paragraph in Part (1.a.) from the work plan progress report.

Comment #3

(a) AUCD would need to overhaul NIRS to ask all required questions and to provide single-year and cumulative reports summarizing the data. They would need a way to track issues encountered by grantees as they try to input the data into NIRS, and develop FAQs to respond to the issues.

(b) Additionally, as we begin to think about the IOD's 5-year report, significant cost and time savings could be realized if an intuitive and efficient structure for the 5-year report could be built into NIRS.

(c) Recommend building the 5-year report into the NIRS system to ease reporting burden of our and other UCEDDs' having to create our own templates for reporting.

(d) Currently, evaluation and demographic information of participants in all core functions must be manually entered into NIRS after completion. This is time consuming and leaves room for missing data and error data. Building electronic forms that would allow UCEDDs to collect their evaluation data directly in NIRS would be very helpful in reducing data error and time spend on data entry. Recommend development of customizable e-forms within NIRS by AUCD to support UCEDDs in collecting their evaluation within NIRS.

Response #3

The UCEDD Resource Center at AUCD will meet this need.

Comment #4

Overall, the proposed questions (especially those to be answered in narrative form) do help to highlight significant outcomes, and the extent to which each UCEDD has successfully performed its core functions, independent of project-specific outcomes.

We do have some concerns regarding (1.b.1). Discuss CAC involvement in evaluating UCEDD activities, and in the development and review of the final program progress report.

At every CAC meeting, we provide updates on the UCEDDs activities, where CAC members are encouraged to comment and make suggestions. An in-depth annual report is provided at our full-day in person CAC meeting every November. If that coincides with a five-year renewal application earlier that year, then a 5-year cumulative report is shared.

Previously, there has been no requirement for CAC members to be directly involved in the development of this report. Essentially, this is a technical report, aggregating 5- years' worth of NIRS data with additional narrative and impact statements. As such, we feel it is both burdensome and somewhat irrelevant to involve the CAC in the development of a report that is submitted to AoD. Rather than ask about CAC involvement in the development, perhaps it would be more beneficial and direct to require that CAC members be surveyed about their experiences and satisfaction with the structure and function of their respective CACs over the preceding 5 years.

Response #4

Regarding Part (1.b1): ACL reviewed and accepts your recommendation to delete the requirement for CAC involvement in the development of the final five-year report.

Comment # 5

Recommend ensuring enough time is allocated between the year 5 annual report due date and the due date of the overall 5-year report.

Response # 5

The year 5 annual report is due July 30 and the 5-year closeout report is due 90 days after the end of the grant period or September 30 for time allocation.

Estimated Program Burden

ACL estimates the burden associated with this collection of information as follows:

Respondent/data collection activity | Number of respondents | Responses per respondent | Hours per response | Annual burden hours
UCEDD Annual Report | 67 | 1 | 1,462 | 97,954

Dated: May 21, 2020.
Mary Lazare,
Principal Deputy Administrator.

[FR Doc. 2020-11685 Filed 5-29-20; 8:45 am]

BILLING CODE 4154-01-P